DEPARTMENT OF THE TREASURY

Agency Information Collection Activities; Proposed Collection; Comment Request; Homeowner Assistance Fund (HAF) Program Quarterly and Annual Report Forms

AGENCY: Departmental Offices, U.S. Department of the Treasury.

ACTION: Notice of information collection; request for comment.

SUMMARY: The Department of the Treasury, as part of its continuing effort to reduce paperwork and respondent burden, invites the general public and other federal agencies to comment on the proposed information collections listed below, in accordance with the Paperwork Reduction Act of 1995.

DATES: Written comments must be received on or before July 8, 2025.

ADDRESSES: Send comments regarding the burden estimate, or any other aspect of the information collection, including suggestions for reducing the burden, to Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Title: HAF Quarterly and Annual Reports, instructions and Treasury's Portal User Guide.

OMB Control Number: 1505-0269.

Type of Review: Extension without change of a currently approved collection.

Description: The Homeowner Assistance Fund (HAF) authorized by the American Rescue Plan Act, provides $9.961 billion to support homeowners facing financial hardship associated with COVID-19. HAF funds were distributed to states, U.S. Territories, and Indian Tribes. Funds from HAF may be used for assistance with mortgage payments, homeowner's insurance, utility payments, and other specified purposes. HAF grantees must submit quarterly and annual report forms on their utilization of HAF award funds. The information can be submitted electronically via Treasury's Portal. The information collection will permit Treasury to effectively monitor the HAF grantees' compliance with the requirements of the HAF Award Terms.

Form: None.

Affected Public: State, Tribal and Territorial Governments.

Estimated Number of Respondents: 360.

Frequency of Response: States, Territories, and Tribes >$5M Allocation: five responses annually; Tribes <$5M Allocation: two responses annually.

Estimated Total Number of Annual Responses: 927.

Estimated Time per Response: Varies from 2-4 hours per report.

Estimated Total Annual Burden Hours: 3,171 hours.

Request for Comments: Comments submitted in response to this notice will be summarized and included in the request for Office of Management and Budget approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Kendra N. Young-Freeman,
Acting Director, Housing Programs.

[FR Doc. 2025-08107 Filed 5-8-25; 8:45 am]

BILLING CODE 4810-AK-P